DEPARTMENT OF HOMELAND SECURITY

Coast Guard

33 CFR Part 117

[Docket No. USCG-2018-0386]

Drawbridge Operation Regulation; Reynolds Channel and Long Creek, Nassau County, NY

AGENCY: Coast Guard, DHS.

ACTION: Notice of temporary deviation from drawbridge regulation.

SUMMARY: The Coast Guard has issued a temporary deviation from the operating schedule that governs the Long Beach Bridge across Reynolds Channel, mile 4.7, and the Loop Parkway Bridge across Long Creek, mile 0.7, at Nassau County, New York. This deviation is necessary to facilitate a fireworks display and allows the bridge to remain in the closed position for two and a half hours.

DATES: This deviation is effective from 9:30 p.m. June 30, 2018 to 11:59 p.m. on July 2, 2018.

ADDRESSES: The docket for this deviation, USCG-2018-0386, is available at http://www.regulations.gov. Type the docket number in the “SEARCH” box and click “SEARCH.” Click on Open Docket Folder on the line associated with this deviation.

FOR FURTHER INFORMATION CONTACT: If you have questions on this temporary deviation, call or email Stephanie Lopez, Bridge Management Specialist, First District Bridge Branch, U.S. Coast Guard; telephone 212-514-4335, email Stephanie.E.Lopez@uscg.mil.

SUPPLEMENTARY INFORMATION: The Town of Hempstead Department of Public Works requested this temporary deviation and both Nassau County, the owner of the Long Beach Bridge, and the New York State Department of Transportation, the owner of the Loop Parkway Bridge, concur with the request to deviate from the normal operating schedules to facilitate the “Annual Salute to Veterans and Fireworks Display.”

The Long Beach Bridge across Reynolds Channel, mile 4.7, has a vertical clearance of 22 feet at mean high water and 24 feet at mean low water in the closed position. The existing drawbridge operating regulation is listed at 33 CFR 117.799(g). The Loop Parkway Bridge across Long Creek, mile 0.7, has a vertical clearance of 21 feet at mean high water and 25 feet at mean low water in the closed position. The existing drawbridge operating regulation is listed at 33 CFR 117.799(f).

The temporary deviation will allow both bridges to remain closed from 9:30 p.m. to 11:59 p.m. on June 30, 2018 with rain date of July 1, 2018. Reynolds Channel and Long Creek are transited by seasonal recreational vessels and commercial vessels. Coordination with Coast Guard Sector Long Island Sound has indicated no mariner objections to the proposed short-term closure of the bridges.

Vessels that can pass under the bridges without an opening may do so at all times. The bridges will be able to open for emergencies. There is no alternate route for vessels to pass.

The Coast Guard will also inform the users of the waterways through our Local and Broadcast Notices to Mariners of the change in operating schedule for the bridges so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 25, 2018.
C.J. Bisignano,
Supervisory Bridge Management Specialist, First Coast Guard District.

[FR Doc. 2018-11771 Filed 5-31-18; 8:45 am]

BILLING CODE P